DEPARTMENT OF COMMERCE

International Trade Administration

Trade Mission to Egypt and Kuwait

AGENCY: International Trade Administration, Department of Commerce.

ACTION: Amendment to notice.

SUMMARY: The United States Department of Commerce, International Trade Administration, U.S. and Foreign Commercial Service is amending the Notice regarding the Trade Mission to Egypt and Kuwait March 10-14, 2013, published at 77 FR 33439, June 6, 2012 to revise the application deadline from December 14, 2012 to the new deadline of January 18, 2013.

SUPPLEMENTARY INFORMATION: In June 2012 the Department of Commerce initiated recruitment for participation in the U.S. Trade Mission to Egypt and Kuwait March 10-14, 2013, published at 77 FR 33439, June 6, 2012. Due to the Thanksgiving holidays and disruptions related to Hurricane Sandy, it has been determined that additional time is needed to allow for additional recruitment and marketing in support of the mission. Applications now will be accepted through January 18, 2013. Interested firms that have not already submitted an application are encouraged to apply. Applications will be accepted after the deadline only to the extent that space remains and scheduling constraints permit.

Amendments

The Timeframe for Recruitment and Applications section of the Trade Mission to Egypt and Kuwait is amended to read as follows:

Timeframe for Recruitment and Applications

Mission recruitment will be conducted in an open and public manner, including posting Export.gov—and other Internet Web sites; publication in trade publications and association newsletters; direct outreach to the Department's clients; posting in the Federal Register; and announcements at industry meetings, symposia, conferences, and trade shows. Recruitment for the mission will begin June 6, 2012 and conclude no later than January 18, 2013. Applications received after January 18, 2013 will be considered only if space and scheduling constraints permit. We will inform applicants of selection decisions as soon as possible after January 18, 2013.

FOR FURTHER INFORMATION CONTACT:

U.S. Commercial Service Cairo, Egypt | U.S. Commercial Service Washington, DC
Dennis Simmons, Deputy Senior Commercial Officer, Embassy of the United States of America, Email: Dennis.Simmons@trade.gov, Tel: 2 (02) 2797-2610. | Anne Novak, U.S. Commercial Service, Washington, DC, Tel: (202) 482-8178, Email: Anne.Novak@trade.gov.

Elnora Moye,
Trade Program Assistant.

[FR Doc. 2012-29289 Filed 12-3-12; 8:45 am]

BILLING CODE 3510-FP-P